SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before January 22, 2019.

ADDRESSES: Send all comments to Michael Donadieu, Director, Office of Small Business Investment Companies Examinations, Small Business Administration, 409 3rd Street, 7th Floor, Washington, DC 20416.

FOR FURTHER INFORMATION CONTACT: Michael Donadieu, Director, Office of Small Business Investment Companies Examinations, 202-205-7281, michael.donadieu@sba.gov, or Curtis B. Rich, Management Analyst, 202-205-7030, curtis.rich@sba.gov.

SUPPLEMENTARY INFORMATION: Form 857 is used by SBA examiners to obtain information about financing provided by small business investment companies (SBICs). This information, which is collected directly from the financed small business, provides independent confirmation of information reported to SBA by SBICs, as well as additional information not reported by SBICs.

Title: “Request for Information Concerning Portfolio Financing”.

Description of Respondents: Small Business Investment Companies.

Form Number: 857.

Annual Responses: 2,250.

Annual Burden: 2,250.

Curtis Rich,
Management Analyst.

[FR Doc. 2018-25515 Filed 11-21-18; 8:45 am]

BILLING CODE 8025-01-P